DEPARTMENT OF HEALTH AND HUMAN SERVICES

Administration for Children and Families

Submission for OMB Review; ACF-901—American Rescue Plan (ARP) Stabilization Grants Provider-Level Data (New Collection)

AGENCY: Office of Child Care, Administration for Children and Families, HHS.

ACTION: Request for public comment.

SUMMARY: The Office of Child Care, Administration for Children and Families (ACF), U.S. Department of Health and Human Services (HHS), is proposing to collect data for a new collection, ACF-901—American Rescue Plan (ARP) Stabilization Grants Provider-Level Data. The data collection will provide numbers and characteristics of child care providers receiving ARP Act stabilization grant awards.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The ARP Act of 2021 (Sec. 2202, Pub. L. 117-2) included approximately $24 billion in funding for child care stabilization grants. State and territory lead agencies must spend at least 90 percent of the stabilization funds as subgrants to qualified child care providers to support the stability of the child care sector during and after the COVID-19 public health emergency. Data collection will include child care provider-level information about the numbers and characteristics of child care providers receiving stabilization grant awards.

Respondents: State and Territory Lead Agencies.

Annual Burden Estimates
Instrument | Total number of respondents | Annual number of responses per respondent | Average burden hours per response | Annual burden hours
ACF-901: American Rescue Plan (ARP) Stabilization Grants Provider-Level Data | 56 | 4 | 20 | 4,480

Authority: The Child Care and Development Block Grant Act (42 U.S.C. 9857 et seq.); 45 CFR parts 98 and 99; the ARP Act of 2021 (Sec. 2202, Pub. L. 117-2).

Mary B. Jones,
ACF/OPRE Certifying Officer.

[FR Doc. 2021-23683 Filed 10-29-21; 8:45 am]

BILLING CODE 4184-84-P